DEPARTMENT OF THE TREASURY

Office of the Assistant Secretary for International Affairs; Treasury International Capital (TIC) Forms BC/BC(SA), BL-1/BL-1(SA), BL-2/BL-2(SA), BQ-1, BQ-2, and BQ-3

AGENCY: Departmental Offices, Department of the Treasury.

ACTION: Notice of reporting requirements.

SUMMARY: By this Notice, the Department of the Treasury is informing the public that it has revised the mandatory data collections conducted through reporting on the Treasury International Capital (TIC) B-forms. The revisions are effective for all reports beginning with reporting periods ending February 28, 2003 and thereafter; until that time, the current mandatory TIC B-forms and instructions remain in force. The revisions include one new form, BQ-3, revised instructions, and five revised forms: BC/BC(SA), BL-1/BL-1(SA), BL-2/BL-2(SA), BQ-1, and BQ-2. This Notice constitutes legal notification to all United States persons, as defined below, who meet the reporting requirements set forth in this Notice that they must respond to, and comply with, these data collections. United States persons who meet the reporting requirements but who do not receive a set of the revised B-forms and instructions should contact the Federal Reserve Bank of New York, acting as fiscal agent for the Department of the Treasury, to obtain copies. Additional copies of the reporting forms and instructions may be printed from the Internet at: http://www.treas.gov/tic/forms.html.

Definition: A U.S. person is any individual, branch, partnership, associated group, association, estate, trust, corporation, or other organization (whether or not organized under the laws of any state), and any government (including a foreign government, the United States Government, a state, provincial, or local government, and any agency, corporation, financial institution, or other entity or instrumentality thereof, including a government-sponsored agency), who resides in the United States or is subject to the jurisdiction of the United States.

Who must Report: U.S. persons who are (a) depository institutions, bank holding companies, financial holding companies, or securities brokers and dealers; and (b) whose reportable amounts exceed established exemption levels must: Report on Form BC/BC(SA) if the total of reporter's own dollar claims on all foreigners is $50 million or more, or if the total of such claims is $25 million or more for any individual country; report on Form BL-1/BL-1(SA) if the total of reporter's own dollar liabilities to all foreigners is $50 million or more, or if the total of such liabilities is $25 million or more for any individual country; report on Form BL-2/BL-2(SA) if the total of reporter's domestic customers' dollar liabilities to all foreigners is $50 million or more, or if the total of such liabilities is $25 million or more for any individual country; report on Form BQ-1 if the total of reporter's domestic customers' dollar claims on all foreigners is $50 million or more, or if the total of such claims is $25 million or more for any individual country; report on Form BQ-2, Part 1 if the total of foreign currency-denominated liabilities and claims of reporter and its domestic customers vis-á-vis all foreigners is $50 million or more, or the total of such liabilities and claims is $25 million or more for any individual country; report on Form BQ-2, Part 2 if the total of reporter's domestic customers' foreign currency-denominated liabilities to all foreigners is $50 million or more; and report on Form BQ-3 if the total of the maturities of selected own dollar and foreign currency-denominated liabilities of the reporter vis-á-vis all foreigners is $4,000 million or more.

What to Report: These reports collect timely information on international portfolio capital movements vis-á-vis foreign countries and international and regional organizations as follows: Form BC/BC(SA) collects information on reporter's own U.S. dollar claims on foreigners; Form BL-1/BL-1(SA) collects information on reporter's own U.S. dollar liabilities to foreigners; Form BL-2/BL-2(SA) collects information on U.S. dollar liabilities of reporter's domestic customers to foreigners; Form BQ-1 collects information on U.S. dollar claims of reporter's domestic customers on foreigners; Form BQ-2, Part 1 collects information on liabilities and claims of reporter and on claims of reporter's domestic customers vis-á-vis foreigners, that are denominated in foreign currencies; Form BQ-2, Part 2 collects information on foreign currency-denominated liabilities of reporter's domestic customers to foreigners; and Form BQ-3 collects information on maturities of selected U.S. dollar and foreign currency-denominated liabilities of reporter vis-á-vis foreigners.

How to Report: Copies of the reporting forms and instructions, which contain complete information on reporting procedures and definitions, can be obtained by contacting the statistics unit of the Federal Reserve Bank of New York at (212) 720-8037, email: Patrica.Selvaggi@ny.frb.org. The mailing address is: Federal Reserve Bank of New York, Statistics Function, 4th Floor, 33 Liberty Street, New York, NY 10045-0001.

When to Report: Data on the revised TIC B-forms should be submitted to the reporter's District Federal Reserve Bank, acting as fiscal agent for the Department of the Treasury, beginning with reporting periods as of February 28, 2003 and thereafter.

Paperwork Reduction Act Notice: These data collections have been approved by the Office of Management and Budget (OMB) in accordance with the Paperwork Reduction Act and assigned control numbers: 1505-0016 for BQ-1; 1505-0017 for BC/BC(SA); 1505-0018 for BL-2/BL-2(SA), 1505-0019 for BL-1/BL-1(SA); 1505-0020 for BQ-2; and 1505-0189 for BQ-3. An agency may not conduct or sponsor, and a person is not required to respond to, a collection of information unless it displays a valid control number assigned by OMB.

Dwight Wolkow,
Administrator, International Portfolio Investment Data Reporting Systems.

[FR Doc. 02-29121 Filed 11-15-02; 8:45 am]

BILLING CODE 4810-25-P